DEPARTMENT OF HEALTH AND HUMAN SERVICES

Administration for Children and Families

Submission for OMB Review; Comment Request

Title: Preventing and Addressing Intimate Violence When Engaging Dads.

OMB No.: New Collection.

Description: The Administration for Children and Families (ACF), Office of Planning, Research, and Evaluation (OPRE) proposes to collect information as part of the Preventing and Addressing Intimate Violence when Engaging Dads (PAIVED) study. Since 2006, the Healthy Marriage and Responsible Fatherhood (HMRF) initiative has funded programs that play a key role in helping the Office of Family Assistance (OFA) achieve its goals to foster economically secure households and communities for the well-being and long-term success of children and families. The purpose of the PAIVED study is to better understand the prevalence of intimate partner violence (IPV) experienced by the population of fathers served by Responsible Fatherhood (RF) programs, and the services that federally- and non-federally funded RF programs are providing to address and contribute to the prevention of IPV among its participants.

The proposed data collection will include whether IPV content is included in RF programs, the types of activities they are using to address IPV, and related successes and challenges. Other collected data will include barriers to addressing IPV in RF programs, the relevance of addressing IPV with fathers, fathers' reactions to this programming, and what types of partnerships RF programs have with other agencies to address IPV. This information will be collected through interviews conducted over the phone and in-person with RF program staff and community partners. This information will be critical to inform future efforts to address and contribute to the prevention of IPV through RF programming.

Respondents: Responsible Fatherhood program staff (e.g., program directors and facilitators) and community partners.

Annual Burden Estimates
Instrument | Total number of respondents | Number of responses per respondent | Average burden hours per response | Annual burden hours
RF program/community partner screening and participant recruitment | 50 | 1 | 1 | 50
RF program staff semi-structured interview | 25 | 1 | 1.5 | 38
Community partner semi-structured interview | 15 | 1 | 1.5 | 23

Estimated Total Annual Burden Hours: 111.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2018-10656 Filed 5-17-18; 8:45 am]

BILLING CODE 4184-73-P